DEPARTMENT OF DEFENSE

Department of the Army; Corps of Engineers

Deauthorization of Water Resources Projects

AGENCY: Army Corps of Engineers, DoD.

ACTION: Notice of project deauthorizations.

SUMMARY: The U.S. Army Corps of Engineers is publishing the name of one water resources project that has been automatically deauthorized under the provisions of § 350(b) of Public Law 106-541.

FOR FURTHER INFORMATION CONTACT: Mr. Joseph W. Aldridge, Headquarters, U.S. Army Corps of Engineers, Attention: CECW-IP, Washington, DC 20314-1000. Tel. (202) 761-4130 or joseph.w.aldridge@usace.army.mil.

SUPPLEMENTARY INFORMATION: Section 350(b) of Public Law 106-541, the Water Resources Development Act of 2000, 100 Stat. 2633, provides that a project for which authorization was continued under section 350(a) of Public Law 106-541, notwithstanding section 1001(b)(2) of the Water Resources Development Act of 1986 (33 U.S.C. 579a(b)(2)), as amended, was to be deauthorized if no funds had been obligated for the construction (including planning and design) of the project within a 7-year period beginning on the date of enactment.

In accordance with section 350(b), of WRDA 2000, one (1) project was automatically deauthorized on December 11, 2007. The following table indicates the disposition of the listed project.

Table 1—(Automatically Deauthorized Under Section 350(b) Pub. L. 106-541)
Corps district | Projects automatically deauthorized on 11 December 2007 under Section 350(b) Pub. L. 106-541 (7-yr provision) | Primary state | Project purpose
SPK | SACRAMENTO RIVER FROM CHICO LANDING TO RED BLUFF, CA | CA | FRM
| Total: 1

Corps District:

SPK Sacramento District

Project Purpose:

FRM Flood Risk Management

Authority: This notice is pursuant to section 350(b) of Public Law 106-541.

Dated: July 21, 2016.
Jo-Ellen Darcy,
Assistant Secretary of the Army (Civil Works).

[FR Doc. 2016-19016 Filed 8-9-16; 8:45 am]

BILLING CODE 3720-58-P